DEPARTMENT OF ENERGY

Environmental Management Site-Specific Advisory Board, Savannah River

AGENCY: Department of Energy.

ACTION: Notice of open meeting.

SUMMARY: This notice announces a meeting of the Environmental Management Site-Specific Advisory Board (EM SSAB), Savannah River. Federal Advisory Committee Act (Pub. L. No. 92-463, 86 Stat. 770) requires that public notice of these meetings be announced in the Federal Register.

DATES: Monday, March 27, 2000: 3:30 p.m-8:00 p.m.;Tuesday, March 28, 1999: 8:30 a.m.-4:00 p.m.

ADDRESSES: All meetings will be held at: Houndlake Country Club, 1900 Houndlake Drive, Aiken, SC 29803.

FOR FURTHER INFORMATION CONTACT: Gerri Flemming, Office of Environmental Quality, Department of Energy Savannah River Operations Office, P.O. Box A, Aiken, SC 29802 (803) 725-5374.

SUPPLEMENTARY INFORMATION: Purpose of the Board: The purpose of the Board is to make recommendations to DOE and its regulators in the areas of environmental restoration, waste management and related activities.

Tentative Agenda

Monday, March 27, 2000

3:30 p.m. Executive Committee

4:30 p.m. Focus Group Guideline Session

6 p.m. Public Comment Session

6:30 p.m. Committee Meetings

8 p.m. Adjourn

Tuesday, March 28, 2000:

8:30 a.m.

Approval of Minutes, Agency Updates

Public Comment Session

Facilitator Update

Nuclear Materials Committee Report

Public Comment

Public Comment (approximately 10 minutes)

12 p.m. Lunch Break

1 p.m.

Waste Management Committee Report

Long Term and Strategic Issues Committee Report

SSAB Chairs Trip Report

Administrative Subcommittee Report

Membership Elections

Administrative Items

Public Comments

4 p.m. Adjourn

If needed, time will be allotted after public comments for items added to the agenda, and administrative details. A final agenda will be available at the meeting.

Public Participation: The meeting is open to the public. Written statements may be filed with the Committee either before or after the meeting. Individuals who wish to make oral statements pertaining to agenda items should contact Gerri Flemming's office at the address or telephone number listed above. Requests must be received 5 days prior to the meeting and reasonable provision will be made to include the presentation in the agenda. The Deputy Designated Federal Official is empowered to conduct the meeting in a fashion that will facilitate the orderly conduct of business. Each individual wishing to make public comment will be provided a maximum of 5 minutes to present their comments.

Minutes: The minutes of this meeting will be available for public review and copying at the Freedom of Information Public Reading Room, 1E-190, Forrestal Building, 1000 Independence Avenue, SW, Washington, DC 20585 between 9:00 a.m. and 4 p.m., Monday-Friday except Federal holidays. Minutes will also be available by writing to Gerri Flemming, Department of Energy Savannah River Operations Office, P.O. Box A, Aiken, S.C. 29802, or by calling (803)-725-5374.

Issued at Washington, DC on March 2, 2000.
Rachel Samuel,
Deputy Advisory Committee Management Officer.

[FR Doc. 00-5945 Filed 3-9-00; 8:45 am]

BILLING CODE 6450-01-P